DEPARTMENT OF JUSTICE

Notice of Extension of Public Comment Period

On December 29, 2021, the Department of Justice lodged a proposed Consent Decree with the United States District Court for the District of South Carolina, in the lawsuit entitled United States v. New-Indy Catawba LLC, Civil Action No. 0:21-cv-02053-SAL.

The United States filed this lawsuit under the Clean Air Act. The United States' complaint seeks injunctive relief related to emissions of Hydrogen Sulfide from defendant's paper mill in Catawba, South Carolina. The consent decree requires the defendant to perform injunctive relief to abate hydrogen sulfide emissions, and to pay a $1.1 million civil penalty.

On January 10, 2022, the Department of Justice published notice of the proposed Consent Decree. 87 FR 1,186. The notice started a 30-day period for the submission of comments on the proposed consent decree. The Department of Justice has received requests for an extension of the comment period. In consideration of the requests, notice is hereby given that the Department of Justice has extended the comment period on the proposed consent decree by an additional 30 days, up to and including March 11, 2022.

Comments should be addressed to the Assistant Attorney General, Environment and Natural Resources Division, and should refer to United States v. New-Indy Catawba LLC, D.J. Ref. No. 90-5-2-1-12471. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined at and downloaded from this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $8.75 (25 cents per page reproduction cost) payable to the United States Treasury.

Lori Jonas,
Assistant Section Chief, Environmental Enforcement Section, Environment and Natural Resources Division.

[FR Doc. 2022-02567 Filed 2-7-22; 8:45 am]

BILLING CODE 4410-15-P